DEPARTMENT OF THE INTERIOR

National Park Service

Notice of Inventory Completion for Native American Human Remains and Associated Funerary Objects in the Possession of the Nevada State Museum, Carson City, NV

AGENCY: National Park Service, Interior.

ACTION: Notice.

Notice is hereby given in accordance with provisions of the Native American Graves Protection and Repatriation Act (NAGPRA), 43 CFR 10.9, of the completion of an inventory of human remains and associated funerary objects in the possession of the Nevada State Museum, Carson City, NV.

This notice is published as part of the National Park Service's administrative responsibilities under NAGPRA, 43 CFR 10.2(c). The determinations within this notice are the sole responsibility of the museum, institution, or Federal agency that has control of these Native American human remains and associated funerary objects. The National Park Service is not responsible for the determinations within this notice.

A detailed assessment of the human remains was made by Nevada State Museum professional staff in consultation with representatives of the Moapa Band of the Southern Paiute Tribe and the Hopi Tribe of Arizona, in coordination with the Southern Paiute Consortium.

In or before 1958, human remains representing two individuals were removed from a mesa above the Muddy River, Clark County, NV, by T. W. Sloan. Mr. Sloan donated these remains to the Nevada State Museum in 1958. No known individual was identified. No associated funerary objects are present.

Based on the geographical location of the burial in an area known to have Puebloan houses, these remains are identified as Native American.

In 1975, human remains representing one individual were removed from a location near Atlatl Rock, Valley of Fire State Park, Clark County, NV, by Bussard Cunningham. At an unknown time, these remains were donated to the Nevada State Museum, presumably by Mr. Cunningham. No known individual was identified. No associated funerary objects are present.

Based on the geographical location of the burial site in an area with Anasazi rock art, these remains are identified as Native American.

Based on the geographical locality and probable age of the burials, these remains are determined to be affiliated with the archeologically-defined Virgin Branch Anasazi Culture. Although the locations from which these remains were removed are within the historic territory of the Moapa Band of the Southern Paiute Tribe, joint consultations with representatives of the Moapa Band of the Southern Paiute Tribe and with representatives of the Hopi Tribe of Arizona produced evidence agreed to by both parties that the Puebloan remains from this area are ancestral to the modern Hopi Tribe of Arizona. Archeological evidence supports this conclusion.

Based on the above-mentioned information, officials of the Nevada State Museum have determined that, pursuant to 43 CFR 10.2(d)(1), the human remains listed above represent the physical remains of two individuals of Native American ancestry. Officials of the Nevada State Museum also have determined that, pursuant to 43 CFR 10.2(e), there is a relationship of shared group identity that can be reasonably traced between these Native American human remains and the Hopi Tribe of Arizona.

This notice has been sent to officials of the Moapa Band of the Southern Paiute Tribe and the Hopi Tribe of Arizona. Representatives of any other Indian tribe that believes itself to be culturally affiliated with these human remains should contact Dr. Alanah Woody, Nevada Division of Museums and History NAGPRA Coordinator, 600 North Carson Street, Carson City, NV 89701, telephone (775) 687-4810, extension 229, before May 14, 2001. Repatriation of the human remains to the Hopi Tribe of Arizona may begin after that date if no additional claimants come forward.

Dated: March 28, 2001.
John Robbins,
Assistant Director, Cultural Resources Stewardship and Partnerships.

[FR Doc. 01-8990 Filed 4-11-01; 8:45 am]

BILLING CODE 4310-70-F